DEPARTMENT OF TRANSPORTATION

Maritime Administration

[Docket Number: MARAD-2002-12540]

Requested Administrative Waiver of the Coastwise Trade Laws

AGENCY: Maritime Administration, Department of Transportation.

ACTION: Notice of deadline for submitting waiver applications under existing waiver authority.

SUMMARY: Pursuant to Public Law 105-383, the Secretary of Transportation, as represented by the Maritime Administration (MARAD), is authorized to grant waivers of the U.S.-build requirement of the coastwise laws under certain circumstances. However, MARAD's authority to grant waivers expires September 30, 2002. To allow adequate time for application processing and public comment, all new applications should be received by MARAD as soon as possible but no later than August 1, 2002. Any certificate or endorsement already issued shall continue in effect until otherwise invalidated or revoked under chapter 121 of title 46, United States Code.

FOR FURTHER INFORMATION CONTACT: Kathleen Dunn, U.S. Department of Transportation, Maritime Administration, MAR-832 Room 7201, 400 Seventh Street, SW., Washington, DC 20590. Telephone 202-366-2307.

SUPPLEMENTARY INFORMATION: Title V of Public Law 105-383 provides authority to the Secretary of Transportation to administratively waive the U.S.-build requirements of the Jones Act, Section 27 of the Merchant Marine Act of 1920, as amended, 46 App. U.S.C. 883, and other statutes, for small commercial passenger vessels (no more than 12 passengers). This authority has been delegated to the Maritime Administration per 49 CFR § 1.66, Delegations to the Maritime Administrator, as amended.

In order to implement the law, a set of procedures has been established to expedite waiver processing. As part of the application procedure MARAD requires a period of public notice, which includes the publication of applications for a waiver for 30 days for public review in the Federal Register.

After the public notice period MARAD uses all sources available to determine if there will be an “undue adverse affect” on existing operators and boat builders. The waiver will not be issued if it is determined by MARAD that the action will unduly adversely affect operators of U.S.-built vessels or U.S. shipyards. Lastly, there is a review procedure and a waiver revocation process if the vessel's use changes substantially after the waiver is issued and the change causes adverse impact.

It is MARAD's goal to make all waiver decisions by September 16, 2002 to include the Maritime Administrator's 10-day recision period before waiver authority expires September 30, 2002.

Basic Eligibility Requirements

(a) The vessel must have been built outside the United States and be at least three years old.

(b) The vessel will not be allowed to carry more than 12 passengers.

(c) The vessel must be of at least 5 net tons and not registered under the laws of a foreign country.

(d) The vessel's ownership must meet U.S. citizenship requirements.

(e) The vessel must meet all other U.S. Coast Guard requirements for a Coastwise Trade Endorsement before it can engage in commercial service. It is the responsibility of the applicant to ensure a proposed vessel meets these standards. For information, please contact the Coast Guard's National Vessel Documentation Center on 1-800-799-8362.

How to Make Application

Applications should reach us no later than August 1, 2002 since our waiver authority expires September 30, 2002. Also, because US Postal Service mail has been delayed in reaching our office since October 2001 you may wish to use an alternate carrier to submit your request. Please apply in writing to the Maritime Administration at the following address. Secretary, Maritime Administration, MAR-120 Room 7210, 400 7th Street, SW., Washington, DC 20590.

The application will be for an administrative waiver of the coastwise laws of the United States for an eligible vessel to carry no more than twelve (12) passengers for hire. The application need not be in any particular format, but must be signed and contain the following information:

(a) Name of vessel including official or state registration number, and owner for which waiver is requested.

(b) Size, capacity and tonnage of vessel (state whether tonnage is measured pursuant to 46 U.S.C. 14502, or otherwise, and if otherwise, how measured).

(c) Intended use for vessel, including geographic region of intended operation and trade. [A good definition of the geographic region is important because it will assist MARAD in determining if the issuance of a waiver will have an adverse impact on current operators. The waiver, if granted, will limit the operation of the vessel to the geographic area specified by the applicant.]

(d) Date and place of construction and (if applicable) rebuilding. (If applicant is unable to determine the origin of the vessel, foreign construction will be assumed).

(e) Name, address, and telephone number of vessel owner.

(f) A statement on the impact this waiver will have on other commercial passenger vessel operators, including a statement describing the operations of existing operators.

(g) A statement on the impact this waiver will have on U.S. shipyards.

You must enclose a non-refundable application fee for each waiver requested, in the form of a check or money order for $300, made out to the order of “Maritime Administration—Transportation.”

MARAD may ask additional questions of the applicant and, as part of the application review process, consider public comment, internal investigation and analysis, or any other sources or information deemed appropriate.

Process

Your waiver request will be published in the Federal Register as soon as practicable for a period of 30 days for public comment. After the 30-day public comment period, MARAD will review all information available and issue a decision. It is our goal to make a decision on every application by September 16, 2002.

A complete copy of the formal rule regarding this program can be found on the World Wide Web at http://dms.dot.gov. Once into the Document Management System, “search” under docket number 5915, the final rule appears as the last document entered, document 6.

Dated: June 24, 2002.
By Order of the Maritime Administrator.
Joel C. Richard,
Secretary, Maritime Administration.

[FR Doc. 02-16267 Filed 6-26-02; 8:45 am]

BILLING CODE 4910-81-P